DEPARTMENT OF COMMERCE

National Oceanic and Atmospheric Administration

15 CFR Part 922

[Docket No. 000510129-1004-02]

RIN 0648-A018

Florida Keys National Marine Sanctuary Regulations; Announcement of Effective Date

AGENCY: Office of National Marine Sanctuaries (ONMS), National Ocean Service (NOS), National Oceanic and Atmospheric Administration (NOAA), Department of Commerce (DOC).

ACTION: Announcement of effective date.

SUMMARY: This document announces that the Revised Designation Document and the final regulations that were published in the Federal Register on January 17, 2001, (66 FR 4267), for the Florida Keys National Marine Sanctuary, became effective in Federal waters on March 8, 2001. The Revised Designation Document expands the boundary of the Sanctuary and the regulations implement the expansion, establish and implement the Tortugas Ecological Reserve, and make other revisions to the Sanctuary regulations.

DATES: The final regulations published at 66 FR 4267 (January 17, 2001) are effective March 8, 2001.

FOR FURTHER INFORMATION CONTACT: Mr. Billy Causey, (305) 743-2437.

SUPPLEMENTARY INFORMATION:

Background

This document announces the effective date in Federal waters for the Revised Designation Document expanding the boundary of the Florida Keys National Marine Sanctuary (FKNMS or Sanctuary) and the final regulations that implement the boundary expansion, establish and implement the Tortugas Ecological Reserve, and that make certain revisions to the Sanctuary regulations. The expansion of the Sanctuary boundary encompasses an area of the State of Florida waters and Federal waters at the far western end of the Florida Keys, and the submerged lands thereunder. The Federal Register document publishing those regulations also contained the Revised Designation Document and summarized the final supplemental management plan for the Sanctuary. The Revised Designation Document sets forth the geographical area included within the Sanctuary, the characteristics of the area that give it conservation, recreational, ecological, historical, research, education, or esthetic value, and the type of activities subject to regulation. The supplemental management plan details the goals and objectives, management responsibilities, research activities, interpretive and educational programs, and enforcement activities of the area. As stated in the preamble to the final rule, the regulations become effective after the close of a review period of 45 days of continuous session of Congress beginning on the day on which the final rule was published unless the Governor of the State of Florida certifies to the Secretary of Commerce that the designation or any of its terms is unacceptable, in which case the designation or any unacceptable terms shall not take effect in State of Florida waters unless and until approved by the Board of Trustees of the Internal Improvement Fund of the State of Florida. The Congressional review period ended on March 7, 2001. On March 6, 2001, the Governor of the State of Florida certified to the Secretary of Commerce that the revised designation, the supplemental management plan, and the regulations implementing the Tortugas Ecological Reserve were unacceptable unless and until approved by the Board of Trustees. The Governor further advised the Secretary that the State of Florida is committed to the protection of the Tortugas area and its resources and that it is expected that the Board of Trustees will consider the proposed designation, ecological reserve, and the implementing regulations within a reasonable time.

Accordingly, the designation of the Sanctuary and the regulations implementing that designation became effective in Federal waters on March 8, 2001. The regulations will not take effect in Florida State waters until approved by the Board of Trustees of the Internal Improvement Fund of the State of Florida. This Federal Register document announces the effective date of the Revised Designation Document and the final regulations as March 8, 2001.

Ted I. Lillestolen,
Deputy Assistant Administrator for Ocean Services and Coastal Zone Management.

[FR Doc. 01-7273 Filed 3-22-01; 8:45 am]

BILLING CODE 3510-08-M